DEPARTMENT OF JUSTICE

Notice of Lodging of Material Modification to Consent Decree under the Clean Air Act

Pursuant to Department of Justice policy, notice is hereby given that, on February 4, 2010, a proposed First Material Modification to Consent Decree (“First Decree Modification”) in United States, et al. v. Bunge North America, Inc., et al., Civil Action No. 2:06-cv-02209-MPM-DGB (C.D. Ill.) was lodged with the United States District Court for the Central District of Illinois. The original Consent Decree in this matter, entered on January 16, 2007, addressed alleged violations of the Clean Air Act, 42 U.S.C. 7401-7671q, and its implementing regulations at 12 soybean and corn processing facilities owned and operated by Bunge North America, Inc. and several affiliated entities (collectively referred to herein as “Bunge”). The First Decree Modification identifies additional facility improvements that Bunge has made to reduce solvent losses from soybean extraction operations at its Cairo, Illinois and Destrehan, Louisiana facilities and it imposes associated requirements, including revised emission limits that would be added to Bunge's Clean Air Act operating permit for the Destrehan, Louisiana facility. The First Decree Modification also substitutes new emission reduction requirements at Bunge's Cairo, Illinois, Decatur, Indiana, and Delphos, Ohio facilities. More specifically: (1) A new emission limit for a boiler at the Cairo, Illinois facility would require Bunge to reduce sulfur dioxide emissions from that facility; and (2) Bunge would reduce air pollutant emissions and wastewater discharges at its Delphos, Ohio and Decatur, Indiana facilities by installing new equipment to capture and recycle the vast majority of the hot water that is condensed from its use of steam so that it will be re-used as steam in the facility's extraction system, rather than being discharged as wastewater.

The Department of Justice will receive comments relating to the First Decree Modification for a period of thirty (30) days from the date of this publication. Comments should be addressed to the Assistant Attorney General, Environment and Natural Resources Division, and mailed either electronically to pubcomment-ees.enrd@usdoj.gov or in hard copy to P.O. Box 7611, U.S. Department of Justice, Washington, DC 20044-7611. Comments should refer to United States, et al. v. Bunge North America, Inc., et al., Civil Action No. 2:06-cv-02209-MPM-DGB (C.D. Ill.) and D.J. Ref. No. 90-5-2-1-07950.

The First Decree Modification may be examined at: (1) The offices of the United States Attorney, 201 South Vine, Suite 226, Urbana, Illinois; and (2) the offices of the U.S. Environmental Protection Agency, 77 West Jackson Boulevard, 14th Floor, Chicago, Illinois. During the public comment period, the First Decree Modification may also be examined on the following Department of Justice Web site: http://www.usdoj.gov/enrd/Consent_Decrees.html. A copy of the First Decree Modification may also be obtained by mail from the Department of Justice Consent Decree Library, P.O. Box 7611, Washington, DC 20044-7611 or by faxing or e-mailing a request to Tonia Fleetwood (tonia.fleetwood@usdoj.gov), fax no. (202) 514-0097, phone confirmation number (202) 514-1547. In requesting a copy from the Consent Decree Library, please enclose a check in the amount of $4.50 (18 pages at 25 cents per page reproduction cost) payable to the U.S. Treasury.

Maureen M. Katz,
Assistant Chief, Environmental Enforcement Section, Environment and Natural Resources Division.

[FR Doc. 2010-3300 Filed 2-19-10; 8:45 am]

BILLING CODE 4410-15-P